DEPARTMENT OF THE INTERIOR

U.S. Geological Survey

[GX16ED00CPN00]

Agency Information Collection Activities: Request for Comments on the Earth Explorer User Registration Service

AGENCY: U.S. Geological Survey (USGS), Interior.

ACTION: Notice of a new information collection, Earth Explorer User Registration Service.

SUMMARY: We (the U.S. Geological Survey) are notifying the public that we have submitted to the Office of Management and Budget (OMB) the information collection request (ICR) described below. To comply with the Paperwork Reduction Act of 1995 (PRA) and as part of our continuing efforts to reduce paperwork and respondent burden, we invite the general public and other Federal agencies to take this opportunity to comment on this ICR.

DATES: To ensure that your comments on this ICR are considered, we must receive them on or before April 11, 2016.

ADDRESSES: Please submit written comments on this information collection directly to the Office of Management and Budget (OMB), Office of Information and Regulatory Affairs, Attention: Desk Officer for the Department of the Interior, via email: (OIRA_SUBMISSION@omb.eop.gov); or by fax (202) 395-5806; and identify your submission with `OMB Control Number 1028-NEW Earth Explorer User Registration Service'. Please also forward a copy of your comments and suggestions on this information collection to the Information Collection Clearance Officer, U.S. Geological Survey, 12201 Sunrise Valley Drive MS 807, Reston, VA 20192 (mail); (703) 648-7195 (fax); or gs-info_collections@usgs.gov (email). Please reference `OMB Information Collection 1028-NEW: Earth Explorer User Registration Service' in all correspondence.

FOR FURTHER INFORMATION CONTACT: Ryan Longhenry, Earth Resources Observation and Science (EROS) Center, U.S. Geological Survey, 47914 252nd St., Sioux Falls, SD 57198 (mail); 605-594-6179 (phone); or rlonghenry@usgs.gov (email).

SUPPLEMENTARY INFORMATION:

I. Abstract

The USGS proposes to collect general demographic information about public users that download products from the USGS using Earth Explorer (EE) application. This information is used to help address reports to Congress, OMB and DOI management with planning public uses of Landsat and other remote sensing data. The most common uses of these data are used to justify the maintenance and the free distribution of the USGS land remote sensing data. EE also stores information about users that download source code products, Global Visualization Viewer (GloVis) for example. The information collected in the database includes the names, affiliations, addresses, email address and telephone numbers of individuals. The information is gathered to facilitate the reporting of demographic data for use of the EE Application. Demographic data is also used to make decisions on future functional requirements within the system.

Earth Explorer is a Web application that enables users to find, preview, and download or order digital data published by the U.S. Geological Survey. There are more than 300 USGS Datasets available from the site. To download or order products from EE, users must register with the EE system.

The information is stored on an internal encrypted database. The data is provided by the customer and utilized to notify the customer of data ready for download. If downloads are unsuccessful, the customer is contacted to provide updated information. In addition, EE requires certain fields to be completed such as name, address, city and zip code before an account can be established and an order can be submitted.

EE does not derive new data and does not create new data through aggregation.

Personal information is not used as search criteria. Access to the information uses the least privileged access methodology. Authorized individuals with specifically granted access to the Privacy Act data can retrieve only by account number or order number Personal data is encrypted while stored in the Database.

II. Data

OMB Control Number: 1028-NEW.

Title: Earth Explorer User Registration Service.

Type of Request: Approval of new information collection.

Respondent Obligation: Required to obtain or retain a benefit.

Frequency of Collection: The information is collected at the time of registration and is only updated by the individual. Updates to the information are accomplished by the individual when they feel the need to update. Occasions' that user might want to update would be if something has changed in their demographic (email address as an example).

Description of Respondents: Private individuals who have requested USGS products from USGS/Earth Explorer application are covered in this system.

Estimated Total Number of Annual Responses: Approximately 84,000 on an annual basis.

Estimated Time per Response: We estimate that it will take 2 minutes per response to submit the requested information.

Estimated Annual Burden Hours: 2,800.

Estimated Reporting and Recordkeeping “Non-Hour Cost” Burden: There are no “non-hour cost” burdens associated with this collection of information.

Public Disclosure Statement: The PRA (44 U.S.C. 3501, et seq.) provides that an agency may not conduct or sponsor and you are not required to respond to a collection of information unless it displays a currently valid OMB control number. Until the OMB approves a collection of information, you are not obliged to respond.

Comments: On May 4, 2015, we published a Federal Register notice (80 FR 25321) announcing that we would submit this ICR to OMB for approval and soliciting comments. The comment period closed on Juley 6, 2015. We received no comments.

III. Request for Comments

We again invite comments concerning this ICR as to: (a) Whether the proposed collection of information is necessary for the agency to perform its duties, including whether the information is useful; (b) the accuracy of the agency's estimate of the burden of the proposed collection of information; (c) how to enhance the quality, usefulness, and clarity of the information to be collected; and (d) how to minimize the burden on the respondents, including the use of automated collection techniques or other forms of information technology.

Please note that comments submitted in response to this notice are a matter of public record. Before including your personal mailing address, phone number, email address, or other personally identifiable information in your comment, you should be aware that your entire comment, including your personally identifiable information, may be made publicly available at any time. While you can ask the OMB in your comment to withhold your personal identifying information from public review, we cannot guarantee that it will be done.

Francis Kelly,
USGS EROS Center Director.

[FR Doc. 2016-05550 Filed 3-10-16; 8:45 am]

BILLING CODE 4338-11-P